COMMISSION ON CIVIL RIGHTS

Agenda and Notice of Public Meeting of the New York State Advisory Committee

Notice is hereby given, pursuant to the provisions of the rules and regulations of the U.S. Commission on Civil Rights, that a meeting of the New York State Advisory Committee to the Commission will convene at 1:00 p.m. and adjourn at 6:30 p.m. on February 16, 2000, at the Radisson Hotel and Suites, 4243 Genesee Street, Buffalo, New York 14225. The Committee will release its report, Equal Housing Opportunities in New York: An Evaluation of Section 8 Housing Programs in Buffalo, Rochester and Syracuse. The Committee will also discuss plans for a new project.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, January 18, 2000.
Carol-Lee Hurley,
Chief, Regional Programs Coordination Unit.

[FR Doc. 00-2097 Filed 1-31-00; 8:45 am]

BILLING CODE 6335-01-F